DEPARTMENT OF TRANSPORTATION

Federal Aviation Administration

Policy Statement No. ANM-01-115-11; Certification of Strengthened Flight Deck Doors on Transport Category Airplanes

AGENCY: Federal Aviation Administration (FAA), DOT.

ACTION: Notice of final policy; request for comments.

SUMMARY: The Federal Aviation Administration (FAA) announces the availability of final policy concerning certification of strengthened flightdeck doors.

DATES: Send your comments on or before March 12, 2003.

ADDRESSES: Address your comments to the individual identified under FOR FURTHER INFORMATION CONTACT.

FOR FURTHER INFORMATION CONTACT: Jeff Gardlin, Federal Aviation Administration, Transport Airplane Directorate, Transport Standards Staff, Airframe/Cabin Safety Branch, ANM-115, 1601 Lind Avenue SW., Renton, WA 98055-4056; telephone (425) 227-2136; fax (425) 227-1320; e-mail: jeff.gardlin@faa.gov.

SUPPLEMENTARY INFORMATION:

Comments Invited

The final policy is available on the Internet at the following address: http://www.faa.gov/certification/aircraft/anminfo/finalpaper.cfm. If you do not have access to the Internet, you can obtain a copy of the policy statement by contacting the person listed under FOR FURTHER INFORMATION CONTACT.

The FAA invites your comments on this final policy. We will accept your comments, data, views, or arguments by letter, fax, or e-mail. Send your comments to the person indicated in FOR FURTHER INFORMATION CONTACT. Mark your comments, “Comments to Policy Statement No. ANM-01-115-11.”

Use the following format when preparing your comments:

• Organize your comments issue-by-issue.

• For each issue, state what specific change you are requesting to the final policy.

• Include justification, reasons, or data for each change you are requesting.

We also welcome comments in support of the final policy.

We will consider all communications received on or before the closing date for comments. We may change the final policy because of the comments received.

Background

The final policy provides all transport airplane programs an acceptable method of compliance with 14 CFR part 25 for intrusion resistance and ballistic protection of flightdeck doors. The Frequently Asked Questions (FAQ) section has also been updated.

Issued in Renton, Washington, on January 21, 2003.
Vi L. Lipski,
Manager, Transport Airplane Directorate, Aircraft Certification Service.

[FR Doc. 03-3273 Filed 2-7-03; 8:45 am]

BILLING CODE 4910-13-M